DEPARTMENT OF TRANSPORTATION

Pipeline and Hazardous Materials Safety Administration

[Docket No. PHMSA-2009-0304]

Pipeline Safety: Information Collection Activities

AGENCY: Pipeline and Hazardous Materials Safety Administration (PHMSA), DOT.

ACTION: Notice and request for comments.

SUMMARY: In accordance with the Paperwork Reduction Act of 1995, PHMSA invites comments on an information collection under Office of Management and Budget (OMB) Control No. 2137-0584, titled “Gas and Hazardous Liquid Pipeline Safety Program Certifications.” PHMSA will request approval from OMB for a revision of the current information collection. That revision relates to the use of on-line certification media containing questions which will improve PHMSA's ability to efficiently allocate grant monies to State programs, resulting in the creation of additional incentives for pipeline safety under the State's jurisdiction.

DATES: Interested persons are invited to submit comments on or before December 14, 2009.

ADDRESSES: Comments may be submitted in the following ways:

E-Gov Web site: http://www.regulations.gov. This site allows the public to enter comments on any Federal Register notice issued by any agency.

Fax: 1-202-493-2251.

Mail: Docket Management Facility, U.S. Department of Transportation, 1200 New Jersey Avenue, SE., West Building, Room W12-140, Washington, DC 20590-0001.

Hand Delivery: Room W12-140 on the ground level of the West Building, 1200 New Jersey Avenue, SE., Washington, DC, between 9 a.m. and 5 p.m., Monday through Friday, except on Wednesdays and Federal holidays.

Instructions: Identify the docket number, PHMSA-2009-0304, at the beginning of your comments. Note that all comments received will be posted without change to http://dms.dot.gov, including any personal information provided. You should know that anyone is able to search the electronic form of all comments received into any of our dockets by the name of the individual submitting the comment (or signing the comment, if submitted on behalf of an association, business, labor union, etc.) Therefore, you may want to review DOT's complete Privacy Act Statement in the Federal Register published on April 11, 2000 (65 FR 19477) or visit http://dms.dot.gov before submitting any such comments.

Docket: For access to the docket or to read background documents or comments, go to http://dms.dot.gov at any time or to Room W12-140 on the ground level of the West Building, 1200 New Jersey Avenue, SE., Washington, DC, between 9 a.m. and 5 a.m., Monday through Friday, except on Wednesdays and Federal holidays.

If you wish to receive confirmation of receipt of your written comments, please include a self-addressed, stamped postcard with the following statement: “Comments on PHMSA-2009-0304”. The Docket Clerk will date-stamp the postcard prior to returning it to you via the U.S. mail. Please note that due to delays in the delivery of U.S. mail to Federal offices in Washington, DC, we recommend that persons consider an alternative method (Internet, fax, or professional delivery service) of submitting comments to the docket and ensuring their timely receipt at DOT.

FOR FURTHER INFORMATION CONTACT: Cameron Satterthwaite by telephone at 202-366-1319, by fax at 202-366-4566, or by mail at U.S. Department of Transportation, Pipeline and Hazardous Materials Safety Administration, 1200 New Jersey Avenue, SE., PHP-30, Washington, DC 20590-0001.

SUPPLEMENTARY INFORMATION: Section 1320.8(d), Title 5, Code of Federal Regulations requires PHMSA to provide interested members of the public and affected agencies an opportunity to comment on information collection and recordkeeping requests. This notice identifies an information collection request that PHMSA is submitting to OMB for revision under OMB Control No. 2137-0584. This information collection is contained in 49 CFR Part 198. We are proposing to revise this information collection to incorporate changes to the tools used to determine the amount of funds received by each participating State. We believe these revisions will improve PHMSA's ability to efficiently allocate grant monies to States that are currently enhancing or seeking to enhance their respective programs, thereby resulting in the creation of additional incentives for pipeline safety under the State's jurisdiction.

Gas and Hazardous Liquid Pipeline Safety Program Certifications

For the hazardous liquids program, the Office of Pipeline Safety (OPS) currently has two States with an agreement under 49 U.S.C. 60106(a) and 15 State programs that are certified under 49 U.S.C. 60105(a) with six States acting as Interstate Agents.

For the natural gas program, the Office of Pipeline Safety (OPS) currently has one State with an agreement under 49 U.S.C. 60106(a) and 51 State programs that are certified under 49 U.S.C. 60105(a) (Hawaii and Alaska are exceptions) with nine States acting as Interstate Agents.

An estimate of the revised burden is as follows:

Title: Pipeline Safety: Gas and Hazardous Liquid Pipeline Safety Program Certifications.

OMB Control Number: 2137-0584.

Type of Request: Revision of a currently approved information collection.

Abstract: A State agency participating in the pipeline safety program must maintain records to demonstrate that the agency is properly monitoring the operations of pipeline operators in that State. The State agency must also submit an annual certificate to PHMSA verifying compliance. PHMSA uses the information collected to evaluate the State's eligibility for Federal grants.

Estimated number of respondents: 67.

Estimated annual burden hours: 3,920 hours.

Frequency of collection: Annually.

Issued in Washington, DC on October 7, 2009.
John A. Gale,
Director of Regulations.

[FR Doc. E9-24838 Filed 10-14-09; 8:45 am]

BILLING CODE 4910-60-P